DEPARTMENT OF COMMERCE

International Trade Administration

[C-351-829]

Certain Hot-Rolled Carbon Steel Flat Products From Brazil: Rescission of Countervailing Duty Administrative Review

AGENCY: Import Administration, International Trade Administration, Department of Commerce.

SUMMARY: The Department of Commerce (the Department) is rescinding the administrative review of the countervailing duty order on certain hot-rolled carbon steel flat products (hot-rolled steel) from Brazil for the period January 1, 2009, through December 31, 2009. Since Nucor Corporation (Nucor) was the only party that requested a review of Usinas Siderurgicas de Minas Gerais, S.A. (USIMINAS) and Companhia Siderurgica Paulista, S.A. (COSIPA), the only producers/exporters subject to review, this notice also serves to rescind the entire administrative review. This rescission is based on Nucor's timely withdrawal of its request for review.

DATES: Effective Date: February 10, 2011.

FOR FURTHER INFORMATION CONTACT: Justin M. Neuman, AD/CVD Operations, Office 6, Import Administration, International Trade Administration, U.S. Department of Commerce, 14th Street and Constitution Avenue, NW., Washington, DC 20230; telephone: (202) 482-0486.

SUPPLEMENTARY INFORMATION:

Background

On September 17, 2004, the Department published in the Federal Register the countervailing duty order on hot-rolled steel from Brazil. See Agreement Suspending the Countervailing Duty Investigation on Hot-Rolled Flat-Rolled Carbon-Quality Steel From Brazil; Termination of Suspension Agreement and Notice of Countervailing Duty Order, 69 FR 56040 (September 17, 2004). On September 1, 2010, the Department published a notice announcing the opportunity to request an administrative review of the countervailing duty order on hot-rolled steel from Brazil for the period January 1, 2009, through December 31, 2009. See Antidumping or Countervailing Duty Order, Finding, or Suspended Investigation; Opportunity To Request Administrative Review, 75 FR 53635 (September 1, 2010). On September 30, 2010, in accordance with 19 CFR 351.213(b), the Department received a timely request from Nucor, a domestic producer of hot-rolled steel, to conduct an administrative review of USIMINAS and COSIPA.

In accordance with section 751(a)(1) of the Tariff Act of 1930 (the Act) and 19 CFR 351.221(c)(1)(i), on October 28, 2010, the Department published a notice initiating an administrative review of USIMINAS and COSIPA under the countervailing duty order. See Initiation of Antidumping and Countervailing Duty Administrative Reviews, 75 FR 66349 (October 28, 2010). On January 6, 2011, Nucor withdrew its request for review.

Rescission of Administrative Review

Pursuant to 19 CFR 351.213(d)(1), the Secretary will rescind an administrative review, in whole or in part, if the party that requested the review withdraws the request within 90 days of the date of publication of the notice of initiation of the requested review. Nucor's January 6, 2011, withdrawal was within the 90-day period, and no other party requested a review. Therefore, pursuant to 19 CFR 351.213(d)(1), the Department is rescinding this administrative review.

Assessment

The Department will instruct U.S. Customs and Border Protection (CBP) to assess countervailing duties at the cash deposit rate in effect on the date of entry, for entries by USIMINAS and COSIPA during the period January 1, 2009, through December 31, 2009. The Department intends to issue appropriate assessment instructions to CBP 15 days after publication of this notice of rescission of administrative review.

Notification Regarding Administrative Protective Order

This notice serves as a final reminder to parties subject to the administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Act and 19 CFR 351.213(d)(4).

Dated: February 4, 2011.
Christian Marsh,
Deputy Assistant Secretary for Antidumping and Countervailing Duty Operations.

[FR Doc. 2011-3007 Filed 2-9-11; 8:45 am]

BILLING CODE 3510-DS-P